Title 3—

The President

Proclamation 9241 of March 13, 2015

National Poison Prevention Week, 2015

By the President of the United States of America

A Proclamation

Household and environmental poisons pose risks to Americans of all ages. While children under age 6 account for half of all cases of poison exposure, more than 90 percent of poisoning deaths occur among people over the age of 20. Poisonings are more common and more deadly than many people realize—but they are often avoidable and treatable, and every person can take action to guard against these preventable tragedies. During National Poison Prevention Week, we raise awareness of the precautions each person can take to protect their loved ones, as well as what to do in the event of a poison emergency.

Most poisonings take place at home where cleaning products, cosmetics, and other chemicals are stored. That is why it is important for parents and caregivers to keep poisonous items out of their children's sight and reach. These items should be properly labeled and stored in their original containers—especially medicine, which is a major source of poisoning among young people and adults. Before taking medication, whether over-the-counter or prescribed, Americans should ensure they understand the instructions, including the proper dosage and how to avoid unsafe drug interactions, and discuss any questions with a doctor or pharmacist. Everyone should also be aware of local environmental poisons, including plants, insects, and berries; practice safe food preparation and handling to avoid food poisoning; and guard against carbon monoxide by installing detectors for this colorless, odorless gas.

If you suspect someone has been poisoned, fast action is essential. Do not wait for signs of poisoning. You should immediately call the toll-free Poison Help line at 1-800-222-1222. The Poison Help line can also connect you with experts to discuss questions about medication and other non-emergency situations. Last year, I was proud to sign the Poison Center Network Act, which reauthorized funding for the Poison Help line and also supported poison control centers and nationwide efforts to raise awareness about poison prevention and the resources available in local communities.

Education and awareness about poisons can save lives. I encourage all people to speak out about the importance of poison prevention and discuss these commonsense steps with their loved ones, coworkers, and neighbors. To learn more, visit www.PoisonHelp.HRSA.gov. Information about safe drug disposal is available at www.DEAdiversion.USDOJ.gov.

To encourage Americans to learn more about the dangers of accidental poisonings and to take appropriate preventative measures, the Congress, by joint resolution approved September 26, 1961, as amended (75 Stat. 681) has authorized and requested the President to issue a proclamation designating the third week of March each year as “National Poison Prevention Week.”

NOW, THEREFORE, I, BARACK OBAMA, President of the United States of America, do hereby proclaim March 15 through March 21, 2015, as National Poison Prevention Week. I call upon all Americans to observe this week by taking actions to protect their families from hazardous household materials and misuse of prescription medicines.

IN WITNESS WHEREOF, I have hereunto set my hand this thirteenth day of March, in the year of our Lord two thousand fifteen, and of the Independence of the United States of America the two hundred and thirty-ninth.

[FR Doc. 2015-06382

Filed 3-17-15; 11:15 am]

Billing code 3295-F5